DEPARTMENT OF AGRICULTURE

Forest Service

Shasta-Trinity National Forest, California; Harris Vegetation Management Project

AGENCY: Forest Service, USDA.

ACTION: Notice of intent to prepare an environmental impact statement.

SUMMARY: The Shasta-Trinity National Forest proposes to improve forest health and restore fire-adapted ecosystem characteristics on approximately 3,000 acres of National Forest System Lands in and adjacent to the Harris Mountain Late-Successional Reserve. Ground and ladder fuels would be reduced. In addition, forested stands would be thinned to yield a fire-resilient forest where periodic low-intensity surface fires can be safely reintroduced. Selective removal of trees is proposed to produce forested areas dominated by fire-resilient tree species with sustainable densities and to exhibit stand structure that provides habitat for late-seral dependent species. Reducing overcrowded conditions will enhance tree survival from insects, drought and disease, and natural disturbance. Trees to be removed would generally be smaller in size than trees retained; renewable by-products including commercial sawtimber and energy from biomass are expected. Dying and diseased mature lodgepole stands within the project area would be regenerated through the removal of most overstory trees. Aspen and oak hardwood trees species will be retained. Removal of conifers competing with existing aspen and oak hardwood trees will enhance the overall diversity of forest stands. Surface and ladder fuel loads will be reduced through removal of brush and small-diameter trees in the forest understory and by underburning. Proposed road reconstruction, closure and decommissioning will aid in restoration of drainage patterns and sediment regimes supporting aquatic systems. The project is located in Siskiyou County within portions of T41N, R1E, section 1; T42N R1E section 36; T42N R2E sections 17-21 and 28-36; and T41N R2E sections 1-6 and 9 Mt. Diablo Meridian.

DATES: Comments concerning the scope of the analysis must be received no later than 30 days after the publication of this notice in the Federal Register. The draft environmental impact statement is expected in April 2010 and the final environmental impact statement is expected in September 2010.

ADDRESSES: Send written comments to District Ranger Priscila S. Franco, Shasta-McCloud Management Unit, 204 W. Alma St., Mt. Shasta, California 96067. Electronic comments can be sent via e-mail to: comments-pacificsouthwest-shasta-trinity-mtshasta-mccloud@fs.fed.us.

Comments received in response to this solicitation, including names and addresses of those who comment, will be part of the public record for this proposed action. Comments submitted anonymously will be accepted and considered; however, anonymous comments will not provide the respondent with standing to participate in subsequent administrative review or judicial review.

FOR FURTHER INFORMATION CONTACT: John Natvig, P.O. Box 688, Hot Springs, SD 57747, telephone (605) 745-3253, e-mail jnatvig@fs.fed.us.

Individuals who use telecommunication devices for the deaf (TDD) may call the Federal Information Relay Service (FIRS) at 1-800-877-8339 between 8 a.m. and 8 p.m., Eastern Time, Monday through Friday.

SUPPLEMENTARY INFORMATION:

Purpose and Need for Action

The purpose of the proposed action is to improve forest health and growth, protect and enhance conditions of late-successional forest ecosystems and reduce fuel loading. The 9,100 acre project area falls within lands identified by the Shasta-Trinity Land and Resource Management Plan (Forest Plan) as Matrix (76 percent) and Late-Successional Reserve (24 percent). Forest stands are overcrowded resulting in competition for water, nutrients and sunlight—conditions which increase the risk of insect infestation. Lodgepole pine stands in the project area are overmature and infected with disease. The overstory trees are dying and new trees are becoming established; however, disease is spreading from the overstory to the new stand. Natural disturbances, such as wildfire that released aspen and oak hardwoods, have been suppressed over the last 60 years; hardwoods are in decline as a result. Conifer species dominate the overstory canopy and out-compete aspen and oak hardwoods for available sunlight and other site resources. Late-Successional Reserves are allocated by the Forest Plan to provide late-successional and old-growth forest; however, less than one percent of this reserve is currently providing such habitat (Shasta-Trinity National Forest Wide Late-Successional Reserve Assessment, 1999). Dense forest conditions delay the development of early seral to mid-successional conditions and mid-successional to late-successional stands. Dense understory trees coupled with an accumulation of surface fuels increases the chances of a wildfire reaching the overstory canopy, yielding the potential for stand replacement. The proposed action is also designed to provide for proper drainage of system roads to minimize surface erosion. It will also ensure that culverts in the area are fully functional and of proper size to facilitate area drainage and prevent erosion-causing water flow over the surface of the road. There are approximately two miles of unclassified and Forest System roads in the project area that are unnecessary for long term management; the proposed action would decommission these road segments.

Proposed Action

The proposed action includes: (1) Thinning in mixed conifer stands; (2) lodgepole pine regeneration harvest; (3) enhancement and retention of hardwood species; (4) fuel treatments; (5) road reconstruction; and (6) road decommissioning.

Activities included in this proposal would result in:

(a) Approximately 1,650 acres would be thinned by removing understory and midstory trees to improve stand health, growth and resistance to insect and disease;

(b) Approximately 400 acres of overstocked stands within the Harris Mountain Late Successional Reserve would be thinned by removing primarily understory and midstory trees to promote the growth of large diameter trees, improve stand health and reduce ladder fuels. Thinning treatments would retain 10 percent or more of the stand in unthinned patches and up to 15 percent of the stand would be in heavily thinned patches or openings up to ¼ acre in size for stand diversity;

(c) Approximately 260 acres of overstocked and diseased lodgepole pine stands would be regenerated by harvesting most overstory trees. A minimum of 15 percent of the overstory would remain. A new stand would be established through natural regeneration and targeted planting;

(d) Oak trees within harvest units and one aspen stand of approximately 20 acres would be released by removing conifers;

(e) Forest fuels would be reduced by thinning to decrease understory and mid-story stocking on a total of approximately 2,050 acres. Following harvest, approximately 320 acres of heavy surface fuels would be machine-piled and burned. Underburning some areas with a relatively cool surface fire would reduce surface fuel loading. Following thinning, 660 acres would be underburned and prescribed fire would reduce fuels on 620 acres outside harvest units;

(f) Salvage harvest within the Harris Mountain Late-Successional Reserve would reduce fuel loading on 30 acres;

(g) Road management would decrease the open-road density by decommissioning approximately ½ mile of Forest System road and 1½ miles of unclassified roads. Erosion of existing roads would be decreased through improved road drainage, culvert replacement and surfacing roads with rock.

Forest thinning and fuels reduction would be accomplished primarily through commercial harvest. Harvest operations would yield sawtimber and chip products. Trees would be felled, removed and processed with mechanized equipment. Harvested trees would be transported from the stump to central landing areas adjacent to roads where they would be limbed and processed into sawtimber logs or chips.

Responsible Official

J. Sharon Heywood, Forest Supervisor, Shasta-Trinity National Forest.

Nature of Decision To Be Made

The Forest Supervisor will decide whether to implement the proposed action, take an alternative action that meets the purpose and need or take no action.

Scoping Process

This notice of intent initiates the scoping process, which guides the development of the environmental impact statement. The project is included in the Shasta-Trinity National Forest's quarterly schedule of proposed actions (SOPA). Information on the proposed action will also be posted on the forest Web site (http://www.fs.fed.us/r5/shastatrinity/projects) and advertised in both the Redding Record Searchlight and the Mount Shasta Herald.

It is important that reviewers provide their comments at such times and in such manner that they are useful to the agency's preparation of the environmental impact statement. Therefore, comments should be provided prior to the close of the comment period and should clearly articulate the reviewer's concerns and contentions. The submission of timely and specific comments can affect a reviewer's ability to participate in subsequent administrative appeal or judicial review.

Dated: July 16, 2009.
J. Sharon Heywood,
Forest Supervisor, Shasta-Trinity National Forest.

[FR Doc. E9-17515 Filed 7-23-09; 8:45 am]

BILLING CODE 3410-11-M